DEPARTMENT OF ENERGY

Federal Energy Regulatory Commission

Combined Notice of Filings

Take notice that the Commission has received the following Natural Gas Pipeline Rate and Refund Report filings:

Filings Instituting Proceedings

Docket Numbers: RP12-338-000.

Applicants: Trailblazer Pipeline Company LLC.

Description: Penalty Revenue Crediting Report of Trailblazer Pipeline Company LLC.

Filed Date: 1/27/12.

Accession Number: 20120127-5148.

Comments Due: 5 p.m. ET 2/8/12.

Docket Numbers: RP12-339-000.

Applicants: Gulf South Pipeline Company, LP.

Description: ONEOK 34951 to BG Energy 39507 Capacity Release Negotiated Rate Agreement Filing to be effective 2/1/2012.

Filed Date: 1/30/12.

Accession Number: 20120130-5180.

Comments Due: 5 p.m. ET 2/13/12.

Docket Numbers: RP12-340-000.

Applicants: Gulf South Pipeline Company, LP.

Description: HK 37731 to Spark 39520 Capacity Release Negotiated Rate Agreement Filing to be effective 2/1/2012.

Filed Date: 1/30/12.

Accession Number: 20120130-5182.

Comments Due: 5 p.m. ET 2/13/12.

Docket Numbers: RP12-341-000.

Applicants: Gulf Crossing Pipeline Company LLC.

Description: Antero 2 to Tenaska 331 Capacity Release Negotiated Rate Filing to be effective 2/1/2012.

Filed Date: 1/30/12.

Accession Number: 20120130-5183.

Comments Due: 5 p.m. ET 2/13/12.

Docket Numbers: RP12-342-000.

Applicants: Gulf Crossing Pipeline Company LLC.

Description: Antero 3 to Tenaska 332 Capacity Release Negotiated Rate Agreement Filing to be effective 2/1/2012.

Filed Date: 1/30/12.

Accession Number: 20120130-5184.

Comments Due: 5 p.m. ET 2/13/12.

Docket Numbers: RP12-343-000.

Applicants: Colorado Interstate Gas Company LLC.

Description: Merger Filing—Name Chg and ATC Rate Adjustment to be effective 3/1/2012.

Filed Date: 1/30/12.

Accession Number: 20120130-5200.

Comments Due: 5 p.m. ET 2/13/12.

Docket Numbers: RP12-344-000.

Applicants: Big Sandy Pipeline, LLC.

Description: Big Sandy Fuel Filing Effective 3-1-2012 to be effective 3/1/2012.

Filed Date: 1/30/12.

Accession Number: 20120130-5252.

Comments Due: 5 p.m. ET 2/13/12.

Docket Numbers: RP12-345-000.

Applicants: Wyoming Interstate Company, LLC.

Description: WIC Quarterly Fuel Filing 01-2012 to be effective 3/1/2012.

Filed Date: 1/30/12.

Accession Number: 20120130-5268.

Comments Due: 5 p.m. ET 2/13/12.

Docket Numbers: RP12-346-000.

Applicants: PostRock KPC Pipeline, LLC.

Description: KPC Tariff Revisions (GT&C Section 3) to be effective 3/1/2012.

Filed Date: 1/30/12.

Accession Number: 20120130-5272.

Comments Due: 5 p.m. ET 2/13/12.

Docket Numbers: RP12-347-000.

Applicants: Ruby Pipeline, LLC.

Description: FL&U Filing effective March 1, 2012 to be effective 3/1/2012.

Filed Date: 1/30/12.

Accession Number: 20120130-5274.

Comments Due: 5 p.m. ET 2/13/12.

Docket Numbers: CP12-44-000.

Applicants: Transcontinental Gas Pipe Line Company, LLC.

Description: Submits an application for the abandonment of service provided to Delmarva Power & Light Company under Transco's Rate Schedule LG-A.

Filed Date: 1/5/12.

Accession Number: 20120127-4010.

Comments Due: 5 p.m. ET 2/13/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1859-001.

Applicants: Equitrans, L.P.

Description: Submits tariff filing per 154.203: Pipeline Safety Cost Tracker Compliance Filing to be effective 4/1/2011.

Filed Date: 4/19/11.

Accession Number: 20110419-5191.

Comment Date: 5 p.m. ET 2/13/12.

Docket Numbers: RP11-1566-009.

Applicants: Tennessee Gas Pipeline Company, LLC.

Description: Rate Case 2011—Settlement Implementation to be effective 2/1/2012.

Filed Date: 1/27/12.

Accession Number: 20120127-5219.

Comments Due: 5 p.m. ET 2/8/12.

Docket Numbers: RP11-2254-002.

Applicants: Midwestern Gas Transmission Company.

Description: Omnibus Compliance to be effective 1/5/2012.

Filed Date: 1/27/12.

Accession Number: 20120127-5112.

Comments Due: 5 p.m. ET 2/8/12.

Docket Numbers: RP11-1745-002.

Applicants: UGI Storage Company.

Description: UGI Storage Company Compliance Tariff Filing, to be effective 2/1/2012.

Filed Date: 1/30/12.

Accession Number: 20120130-5251.

Comments Due: 5 p.m. ET 2/13/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 31, 2012.
Nathaniel J. Davis, Sr.,
Deputy Secretary.

[FR Doc. 2012-2543 Filed 2-3-12; 8:45 am]

BILLING CODE 6717-01-P